DEPARTMENT OF AGRICULTURE

Agricultural Marketing Service

[Doc. No. AMS-NOP-11-0072; NOP-11-13]

Notice of 2011 National Organic Certification Cost-Share Program

AGENCY: Agricultural Marketing Service, USDA.

ACTION: Notice of Funds Availability: Inviting Applications from State Departments of Agriculture for the National Organic Certification Cost-Share Program.

SUMMARY: This Notice invites all States of the United States of America, its territories, the District of Columbia, and the Commonwealth of Puerto Rico, (hereinafter collectively called States) to submit an Application for Federal Assistance (Standard Form 424) and to enter into a cooperative agreement with the Agricultural Marketing Service (AMS) for the allocation of National Organic Certification Cost-Share Funds. Beginning in Fiscal Year 2008, the AMS allocated $22.0 million for the national organic certification cost-share program. These funds will be allocated annually to States through cooperative agreements until exhausted. Funds are available to States interested in providing cost-share assistance to organic producers and handlers certified under the USDA Organic Regulations (7 CFR 205). States interested in obtaining cost-share funds must submit an Application for Federal Assistance and enter into a cooperative agreement with AMS for allocation of funds.

DATES: Completed Applications for Federal Assistance and signed cooperative agreements must be received by the National Organic Program (NOP) no later than September 23, 2011.

ADDRESSES: Applications for federal assistance shall be submitted via http://www.grants.gov. Paper applications will not be accepted. Instructions for submitting applications are available on the National Organic Program's Web site at http://www.ams.usda.gov/NOPCostSharing. Signed cooperative agreements should be sent via express mail to Betsy Rakola, Agricultural Marketing Specialist, National Organic Program, USDA/AMS/NOP, Room 2646-South, Ag Stop 0268, 1400 Independence Avenue, SW., Washington, DC 20250-0268.

FOR FURTHER INFORMATION CONTACT: Betsy Rakola, Agricultural Marketing Specialist, National Organic Program, USDA/AMS/NOP, Room 2646-South, Ag Stop 0268, 1400 Independence Avenue, SW., Washington, DC 20250-0268; Telephone: (202) 720-3252. E-mail: Betsy.Rakola@ams.usda.gov.

SUPPLEMENTARY INFORMATION: This National Organic Certification Cost-Share Program is authorized under 7 U.S.C. 6523, as amended by section 10301 of the Food, Conservation and Energy Act of 2008 (Act). The Act authorizes the Department to provide certification cost-share assistance to producers and handlers of organic agricultural products in all States. Beginning in Fiscal Year 2008, the AMS allocated $22 million for this program to be distributed to interested States, until funding has been exhausted. The Program provides financial assistance to organic producers and handlers certified to the USDA Organic Regulations (7 CFR 205). The National Organic Program is authorized under the Organic Foods Production Act of 1990, as amended (7 U.S.C. 6501 et seq.).

To participate in the program, interested States, through their State Department of Agriculture, must complete an Application for Federal Assistance (Standard Form 424) and enter into a written cooperative agreement with AMS. State Department of Agriculture refers to agencies, commissions, or departments of State government responsible for implementing regulation, policy or programs on agriculture within their State. The program will provide cost-share assistance, through participating States, to organic producers and handlers receiving certification or incurring expenses for the continuation of certification by a USDA accredited certifying agent during the period of October 1, 2011, through September 30, 2012. Under the Act, cost-share assistance payments are limited to 75% (seventy-five percent) of an individual producer's or handler's certification costs up to a maximum of $750 (seven-hundred and fifty dollars) per year. To receive cost-share assistance, organic producers and handlers should contact their State Departments of Agriculture. Procedures for applying are outlined in the program's policies and procedures document at http://1.usa.gov/OrganicCostShare.

For producers in the states of Connecticut, Delaware, Hawaii, Maine, Maryland, Massachusetts, Nevada, New Hampshire, New Jersey, New York, Pennsylvania, Rhode Island, Utah, Vermont, West Virginia, and Wyoming, cost-share funding is available under the Agricultural Management Assistance (AMA) Organic Certification Cost-Share Program. The AMA program is authorized under Section 1524 of the Federal Crop Insurance Act, as amended (7 U.S.C. 1501-1524). As provided in a notice of Funds Availability published separately in the Federal Register, completed applications for the AMA federal assistance program, along with signed cooperative agreements, must be received by the NOP no later than September 23, 2011. Information on the AMA program can be found on the NOP's Web site at http://www.ams.usda.gov/NOPCostSharing.

How to Submit Applications: To receive funds for cost-share assistance, a State Department of Agriculture must complete an Application for Federal Assistance (Standard Form 424) and enter into a written cooperative agreement with AMS. Interested States should submit the Application for Federal Assistance, (Standard Form 424) electronically via Grants.gov, the Federal grants Web site, at http://www.grants.gov. For information on how to use Grants.Gov, please consult http://www.grants.gov/GetRegistered. Applications must be filed by Friday, September 23, 2011. Cooperative agreements will be sent by the AMS to participating State Departments of Agriculture via express mail. The cooperative agreement must have the original signature of an official who has authority to apply for Federal assistance. The signed cooperative agreement must be sent by express mail and received by the NOP by September 23, 2011 at the address specified previously.

The National Organic Certification Cost-share Program is listed in the “Catalog of Federal Domestic Assistance” under number 10.171. Subject agencies must adhere to Title VI of the Civil Rights Act of 1964, which bars discrimination in all Federally-assisted programs. Additional information on the National Organic Certification Cost-share Program can be found on the NOP's Web site at http://www.ams.usda.gov/NOPCostSharing.

Authority: 7 U.S.C. 6523.

Dated: August 29, 2011.
Ellen King,
Acting Administrator, Agricultural Marketing Service.

[FR Doc. 2011-22611 Filed 9-2-11; 8:45 am]

BILLING CODE 3410-02-P